DEPARTMENT OF DEFENSE

DEPARTMENT OF VETERANS AFFAIRS

38 CFR Part 21

RIN 2900-AL02

Increased Allowances for the Educational Assistance Test Program

AGENCIES: Department of Defense and Department of Veterans Affairs.

ACTION: Final rule.

SUMMARY: The law provides that rates of subsistence allowance and educational assistance payable under the Educational Assistance Test Program shall be adjusted annually by the Secretary of Defense based upon the average actual cost of attendance at public institutions of higher education in the twelve-month period since the rates were last adjusted. After consultation with the Department of Education, the Department of Defense has concluded that the rates for the 2001-02 academic year should be increased by 4.7% over the rates payable for the 2000-01 academic year. The regulations dealing with these rates are amended accordingly.

DATES: Effective Date: May 14, 2002.

Applicability Date: The changes in rates are applied retroactively to October 1, 2001, to conform to statutory requirements.

FOR FURTHER INFORMATION CONTACT: William G. Susling, Jr., Assistant Director for Policy and Program Development, Education Service (225), Veterans Benefits Administration, 202-273-7187.

SUPPLEMENTARY INFORMATION: The law (10 U.S.C. 2145) provides that the Secretary of Defense shall adjust the amount of educational assistance which may be provided in any academic year under the Educational Assistance Test Program, and the amount of subsistence allowance authorized under that program. The adjustment is to be based upon the twelve-month increase in the average actual cost of attendance at public institutions of higher education. As required by law, the Department of Defense has consulted with the Department of Education. The Department of Defense has concluded that these costs increased by 4.7% in the 2000-01 academic year. Accordingly, this final rule changes 38 CFR 21.5820 and 21.5822 to reflect a 4.7% increase in the rates payable in the 2001-02 academic year, including changes in § 21.5820 to remove unnecessary provisions that were previously needed to compensate for rounding. Other nonsubstantive changes are made for the purpose of clarification.

Administrative Procedure Act

Pursuant to 5 U.S.C. 553 there is good cause for finding that notice and public procedure are impractical, unnecessary, and contrary to the public interest and there is good cause for dispensing with a 30-day delay of the effective date. The rates of subsistence allowance and educational assistance payable under the Educational Assistance Test Program are determined based on a statutory formula and, in essence, the calculation of rates merely constitutes a non-discretionary ministerial act. The other changes made by this document are merely nonsubstantive changes for the purpose of clarification.

Paperwork Reduction Act

This document contains no provisions constituting a collection of information under the Paperwork Reduction Act (44 U.S.C. 3501-3520).

Regulatory Flexibility Act

The Secretary of Veterans Affairs and the Secretary of Defense hereby certify that these amended regulations will not have a significant economic impact on a substantial number of small entities as they are defined in the Regulatory Flexibility Act, 5 U.S.C 601-612. This final rule directly affects only individuals. Pursuant to 5 U.S.C. 605(b), this final rule, therefore, is exempt from the initial and final regulatory flexibility analyses requirements of sections 603 and 604.

Unfunded Mandates

The Unfunded Mandates Reform Act requires, at 2 U.S.C. 1532, that agencies prepare an assessment of anticipated costs and benefits before developing any rule that may result in an expenditure by State, local, or tribal governments, in the aggregate, or by the private sector, of $100 million or more in any given year. This rule would have no consequential effect on State, local, or tribal governments.

Catalog of Federal Domestic Assistance Number

There is no Catalog of Federal Domestic Assistance number for the program affected by the regulations.

List of Subjects in 38 CFR Part 21

Administrative practice and procedure, Armed forces, Civil rights, Claims, Colleges and universities, Conflict of interests, Defense Department, Education, Employment, Grant programs-education, Grant programs-veterans, Health programs, Loan programs-education, Loan programs-veterans, Manpower training programs, Reporting and recordkeeping requirements, Schools, Travel and transportation expenses, Veterans, Vocational education, Vocational rehabilitation.

Approved: February 21, 2002.
Anthony J. Principi,
Secretary of Veterans Affairs.

Approved: May 2, 2002.
John A. Van Alstyne,
Lieutenant General, USA, Deputy Assistant Secretary, (Military Personnel Policy) Department of Defense.

For the reasons set out above, 38 CFR part 21 (subpart H) is amended as set forth below.

PART 21—VOCATIONAL REHABILITATION AND EDUCATION

Subpart H—Educational Assistance Test Program

1. The authority citation for part 21, subpart H, continues to read as follows:

Authority: 10 U.S.C. ch. 107; 38 U.S.C. 501(a), 3695, 5101, 5113, 5303A; 42 U.S.C. 2000; sec. 901, Pub. L. 96-342, 94 Stat. 1111-1114, unless otherwise noted.

2. Section 21.5820 is amended by:

a. In paragraph (b)(1), removing “2000-01” and adding, in its place, “2001-02”; and by removing “$3,524” and adding, in its place, “$3,690”;

b. In paragraph (b)(2)(ii), removing “2000-01” and adding, in its place, “2001-02”;

c. In paragraph (b)(2)(ii)(A), removing “$391.56” and adding, in its place, “$410.00”, and by removing “$195.78” and adding, in its place, “$205.00”;

d. In paragraph (b)(2)(ii)(B), removing “$13.05” and adding, in its place, “$13.67”, and by removing “$6.53” and adding, in its place “$6.83”;

e. In paragraph (b)(3)(ii) introductory text, removing “2000-01” and adding, in its place, “2001-02”;

f. In paragraph (b)(3)(ii)(A), removing “$391.56” and adding, in its place, “$410.00”; and by removing “$195.78” and adding, in its place, “$205.00”;

g. In paragraph (b)(3)(ii)(B), removing “$13.05” and adding, in its place, “$13.67”, and by removing “$6.53”, and adding, in its place, “$6.83”; and

h. Revising paragraphs (b)(2)(ii)(C) and (b)(3)(ii)(C).

The revisions read as follows:

§ 21.5820 Educational assistance.

* * * * *

(b) * * *

(2) * * *

(ii) * * *

(C) Adding the two results.

* * * * *

(3) * * *

(ii) * * *

(C) Adding the two results; and

* * * * *

§ 21.5822 [Amended]

3. Section 21.5822 is amended by:

a. In paragraph (b)(1)(i), removing “$878” and adding, in its place, “$919”; and by removing “2000-01” and adding, in its place, “2001-02”;

b. In paragraph (b)(1)(ii), removing “$439” and adding, in its place, “$459.50”; and by removing “2000-01” and adding, in its place, “2001-02”;

c. In paragraph (b)(2)(i), removing “2000-01” and adding, in its place, “2001-02”; and by removing “$878” and adding, in its place, “$919”; and

d. In paragraph (b)(2)(ii), removing “2000-01” and adding, in its place, “2001-02”; and by removing “$439” and adding, in its place, “$459.50”.

[FR Doc. 02-11989 Filed 5-13-02; 8:45 am]

BILLING CODE 8320-01-P